DEPARTMENT OF HEALTH AND HUMAN SERVICES

National Committee on Vital and Health Statistics: Meeting

AGENCY: National Committee on Vital and Health Statistics (NCVHS), HHS

ACTION: Notice of full committee and subcommittee meetings.

SUMMARY: Pursuant to the Federal Advisory Committee Act, the Department of Health and Human Services (HHS) announces the following advisory committee meeting.

DATES: Tuesday, June 14, 2016: 9 a.m.-5:40 p.m.—Full Committee Meeting.

Wednesday, June 15, 2016: 8 a.m.-2:25 p.m.—Full Committee Meeting.

Thursday, June 16, 2016: 8:30 a.m.-5 p.m.—Privacy Subcommittee Meeting on “Minimum Necessary and the Health Insurance Portability and Accountability Act (HIPAA)”.

Friday, June 17, 2016: 8:15 a.m.-4 p.m.—NCVHS Meeting on Claims-based Databases for Policy Development and Evaluation.

ADDRESSES: The public meetings on June 14-16, 2016 will be held at the U.S. Department of Health and Human Services, Hubert H. Humphrey Building, Room 705-A, 200 Independence Avenue SW., Washington, DC 20024. The public meeting on June 17, 2016 will be held at the Wilbur J. Cohen Building, 330 Independence Avenue SW, Snow Room, #5051, Washington, DC 20201. Phone: (202) 690-7100.

FOR FURTHER INFORMATION CONTACT: Substantive program information may be obtained from Rebecca Hines, Executive Secretary, NCVHS, National Center for Health Statistics, Centers for Disease Control and Prevention, 3311 Toledo Road, Hyattsville, Maryland 20782, telephone (301) 458-4715. Summaries of meetings and a roster of committee members are available on the NCVHS home page of the HHS Web site: http://www.ncvhs.hhs.gov/, where further information including an agenda and information for remote audio access to the meetings will be posted.

Should you require reasonable accommodation, please contact the CDC Office of Equal Employment Opportunity on (301) 458-4EEO (4336) as soon as possible.

SUPPLEMENTARY INFORMATION:

Status: Open.

Purpose: At the June 14-15, 2016 meeting the Committee will hear presentations and hold discussions on several health data policy topics. The Committee will receive updates from the Department, including from the Office of the National Coordinator and the Centers for Medicare and Medicaid Services. The Committee will discuss and take action on two recommendation letters stemming from the February 16, 2016 Standards Subcommittee hearing on the proposed Phase IV Operating Rules and proposed Attachment Standard. Findings from the June 2015 Review Committee Hearing on Adopted Transaction Standards, Operating Rules, Code Sets and Identifiers also will be discussed. The Committee will review the current public health data landscape with briefings from the National Center for Health Statistics, U.S. Census Bureau and CDC's Center for Surveillance, Epidemiology, and Laboratory Services. CMS will provide a briefing on MACRA and the Merit-Based Incentive Payment System (MIPS). The Committee will further review its strategic plan for 2016 and all Subcommittees will report on work plans and next steps. The Subcommittee on Privacy, Confidentiality, and Security will brief the full Committee on proceedings from the meeting on De-identification and the Health Insurance Portability and Accountability Act (HIPAA) scheduled for May 24-25, 2016, and discuss preliminary findings.

After the plenary session adjourns, the Work Group on HHS Data Access and Use will continue strategic discussions on building a framework for guiding principles for data access and use.

Privacy-specific topics will be addressed during the same week at the following meeting: The NCVHS Privacy, Confidentiality and Security Subcommittee will hold a one day meeting on June 16, 2016 to review the state of implementation of current policies and practices of the Health Insurance Portability and Accountability Act (HIPAA) Privacy Minimum Necessary provisions. The Subcommittee plans to identify and discuss issues and challenges that the industry is facing when addressing this requirement for potential recommendations to the HHS Secretary for policy and practice guidance addressing compliance with the “minimum necessary” standard.

On June 17th the full Committee will hold a meeting to explore the current state of the art associated with the collection and use of Multipayor claims data bases. These data bases include private data bases (sometimes known as Multi-claims Data Bases) and State claims data bases referred to as All-Payer Claims Databases (APCDs). The purpose of this meeting is to highlight the current state of development, challenges, issues, and opportunities faced by these initiatives, engage stakeholders on key issues, and identify priority areas and opportunities for recommendations to the Secretary of HHS and to the industry.

Dated: May 16, 2016.
James Scanlon,
Deputy Assistant Secretary for Planning and Evaluation, Office of the Assistant Secretary for Planning and Evaluation.

[FR Doc. 2016-12160 Filed 5-27-16; 8:45 am]

BILLING CODE 4151-05-P